DEPARTMENT OF AGRICULTURE

Forest Service

Lake Tahoe Basin Federal Advisory Committee

AGENCY: Forest Service, USDA.

ACTION: Notice of meeting.

SUMMARY: The Lake Tahoe Basin Federal Advisory Committee will hold a meeting on May 15, 2008 at The Chateau, 955 Fairway Blvd. Incline Village, NV 89451. This Committee, established by the Secretary of Agriculture on December 15, 1998 (64 FR 2876), is chartered to provide advice to the Secretary on implementing the terms of the Federal Interagency Partnership on the Lake Tahoe Region and other matters raised by the Secretary.

DATES: The meeting will be held May 15, 2008, beginning at 1 p.m. and ending at 4 p.m.

ADDRESSES: The meeting will be held at The Chateau, 955 Fairway Blvd. Incline Village, NV 89451

For Further Information or To Request an Accommodation (one week prior to meeting date) Contact: Aria Hams, Lake Tahoe Basin Management Unit, Forest Service, 35 College Drive, South Lake Tahoe, CA 96150, (530) 543-2773.

SUPPLEMENTARY INFORMATION: Items to be covered on the agenda include: (1) Final recommendations for Southern Nevada Public Land Management Act (SNPLMA) Round 9 Capital projects and Science and Research themes; (2) a public hearing on the Lake Tahoe Federal Advisory Committees' SNPLMA Round 9 recommendations; and, (3) written public comment received during the comment period will be shared. All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

Dated: April 15, 2008.
Eli Ilano,
Deputy Forest Supervisor.

[FR Doc. E8-8627 Filed 4-22-08; 8:45 am]

BILLING CODE 3410-11-M